DEPARTMENT OF DEFENSE

Office of the Secretary

[Docket ID: DOD-2019-OS-0125]

Submission for OMB Review; Comment Request

AGENCY: Office of the Assistant to the Secretary Defense for Public Affairs, DoD.

ACTION: 30-Day information collection notice.

SUMMARY: The Department of Defense has submitted to OMB for clearance the following proposal for collection of information under the provisions of the Paperwork Reduction Act.

DATES: Consideration will be given to all comments received by February 27, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Joint Civilian Orientation Conference Program (JCOC) Eligibility of Nominators and Candidates; JCOC Nomination Form; JCOC Registration Form; OMB Control Number 0704-0562.

Type of Request: Renewal.

Number of Respondents: 100.

Responses per Respondent: 1.

Annual Responses: 100.

Average Burden per Response: 15 minutes.

Annual Burden Hours: 25.

Needs and Uses: Respondents are individuals authorized to nominate candidates for participation in JCOC, and candidates nominated for and selected to participate in JCOC. The JCOC Nomination Form and Registration Form each record the nominator's credentials and contact information and the candidate's credentials and contact information. The completed forms are used to administer the JCOC program, verify the eligibility of nominators and candidates, and to select those nominated individuals for participation in JCOC, which is impossible to do without this information. Ensuring the credentials of nominators and candidates is vital to the integrity and accountability of the JCOC program.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: January 23, 2020.
Morgan E. Park,
Alternate OSD Federal Register Liaison Officer, Department of Defense.

[FR Doc. 2020-01393 Filed 1-27-20; 8:45 am]

BILLING CODE 5001-06-P